TENNESSEE VALLEY AUTHORITY

Paperwork Reduction Act of 1995, as Amended by Public Law 104-13; Proposed Collection, Comment Request

AGENCY: Tennessee Valley Authority.

ACTION: Proposed collection; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC: 0008ZN2).

Comments should be sent to the Agency Clearance Officer no later than April 15, 2005.

SUPPLEMENTARY INFORMATION: Type of Request: Regular submission; proposal for a reinstatement of an expired collection, without change, which expired on 8/31/1998 (OMB Control number: 3316-0101).

Title of Information Collection: Customer Surveys of Boating Activities on TVA Reservoirs.

Frequency of Use: Once every four years.

Type of Affected Public [Individuals, Business, Federal, State, and Local Government, and Marinas.]: Individuals.

Small Businesses or Organizations Affected: No.

Federal Budget Functional Category Code: 271.

Estimated Number of Annual Responses: 1,000.

Estimated Total Annual Burden Hours: 170.

Estimated Average Burden Hours Per Response: 0.17.

Need For and Use of Information: This survey will collect information from recreational users of TVA lakes on their needs and requirements. The information will be used to assess TVA's Lake operations and to identify potential areas of improvement that will benefit the recreation boating public.

Jacklyn J. Stephenson,
Senior Manager, Enterprise Operations, Information Services.

[FR Doc. 05-2766 Filed 2-11-05; 8:45 am]

BILLING CODE 8120-08-P